ENVIRONMENTAL PROTECTION AGENCY

[ER-FRL-6618-4]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-AFS-J65334-MT Rating EC2, Keystone-Quartz Ecosystem Management, Implementation, Beaverhead-Deerlodge National Forest, Wise River Ranger District, Beaverhead County, MT.

Summary: EPA expressed environmental concerns with low standard roads. EPA suggests that the final EIS include information regarding enforcement of off-road vehicle travel restrictions, and proposed noxious weed treatment, including potential environmental impacts from weed control chemicals.

ERP No. D-AFS-J65335-MT Rating EC2, Dry Fork Vegetation Restoration Project, To Improve Forest and Watershed Health and Sustainability, King Hill Ranger District, Lewis and Clark National Forest, Cascade and Judith Basin Counties, MT.

Summary: EPA expressed environmental concerns with low standard roads and recommends restoration. EPA recommends that the final EIS include information on aquatic monitoring, enforcement of off-road vehicle travel restrictions, proposed noxious weed treatments, and potential environmental impacts from weed control chemicals.

ERP No. D-AFS-L65376-OR Rating EC2, Silvies Canyon Watershed Restoration Project, To Improve the Ecosystem Health of the Watershed, Grant and Harney Counties, OR.

Summary: EPA expressed environmental concerns with road densities exceeding forest plan objectives, access issues posed by ATVs, adverse impacts to aquatic and upland resources and impacts from livestock grazing activities. EPA suggests that the final EIS include a Clean Water Act Section 303(d) Protocal for listed waters, and a smoke management program for prescribe fires.

ERP No. D-BLM-K67054-NV Rating 3, Phoenix Project, Expansion of Current Mining Operations and Processing Activities, Battle Mountain, Plan of Operations, Lander County, NV.

Summary: EPA determined that the DEIS was inadequate because it lacked any itemized cost estimate for closure and perpetually operating and maintaining the site, and did not include an adequate guarantee that a financial instrument will exist to ensure funds would be available in perpetuity to prevent degradation of groundwater quality and impacts to biological resources. Given the very clear evidence that this mining project would create a perpetual and significant acid mine drainage problem, EPA believes a cost estimate and detailed discussion is necessary in order to determine the magnitude and certainty of the mitigation measures.

ERP No. D-DOE-K08023-AZ Rating EC2, Sundance Energy Project, Interconnecting a 600-megawatt Natural Gas-Fired, Simple Cycle Peaking Power Plant with Western's Electric Transmission System, Construction and Operation on Private Lands, Pinal County, AZ.

Summary: EPA expressed environmental concerns regarding the availability of process water, the storage and use of wastewater, potential significant air quality impacts, and consultation with Indian Tribal governments. EPA advocated an energy development approach which assures a long-term, sustainable balance between available energy supplies, energy demand, and protection of ecosystem and human health.

ERP No. D-NPS-G65079-OK Rating LO, Washita Battlefield National Historic Site, General Management Plan, Implementation, Roger Mill County, OK.

Summary: EPA expressed lack of objections.

ERP No. DA-DOE-A22088-SC Rating EC2, Savannah River Site Salt Processing Alternatives, Evaluation for Separating High-Activity and Low-Activity Fractions of Liquid High-Level Radio-active Waste and Potential Environmental Impacts of Alternatives to the In-Tank-Precipitation Process (ITP), Aiken and Barnwell Counties, SC.

Summary: EPA expressed environmental concerns regarding cumulative impacts and the need to provide additional alternative analysis.

Dated: May 22, 2001.
Joseph C. Montgomery,
Director, NEPA Compliance Division, Office of Federal Activities.

[FR Doc. 01-13293 Filed 5-24-01; 8:45 am]

BILLING CODE 6560-50-U